DEPARTMENT OF ENERGY

Federal Energy Regulatory Commission

Sunshine Act Meeting Notice

November 13, 2002.

The following notice of meeting is published pursuant to section 3(a) of the Government in the Sunshine Act (Pub. L. 94-409), 5 U.S.C. 552B:

Agency Holding Meeting: Federal Energy Regulatory Commission.

Date and Time: November 20, 2002, 10 a.m.

Place: Room 2C, 888 First Street, NE., Washington, DC 20426.

Status: Open.

Matters to Be Considered: Agenda.

Note: Items listed on the agenda may be deleted without further notice.

Contact Person for More Information: Magalie R. Salas, secretary, telephone (202) 502-8400, for a recording listing items stricken from or added to the meeting, call (202) 502-8627.

This is a list of matters to be considered by the Commission. It does not include a listing of all papers relevant to the items on the agenda; however, all public documents may be examined in the reference and information center.

811TH—Meeting November 20, 2002, Regular Meeting, 10 A.M.

Administrative Agenda

A-1. Docket# AD02-1, 000, Agency Administrative Matters

A-2. Docket# AD02-7, 000, Customer Matters, Reliability, Security and Market Operations

Markets, Tariffs and Rates—Electric

E-1. Omitted

E-2. Docket# EC02-96, 000, Ameren Services Company on behalf of Ameren's Public Utility Company Subsidiaries

E-3. Omitted

E-4. Docket# ER02-2595, 000, Midwest Independent Transmission System Operator, Inc.

E-5. Omitted

E-6. Docket# ER03-13, 000, New York Independent System Operator, Inc.

E-7. Docket# ER03-42, 000, Sithe/Independence Power Partners, L.P.

E-8. Omitted

E-9. Docket# ER98-3760, 000, California Independent System Operator Corporation

Other#s EC96-19, 009, Pacific Gas and Electric Company, San Diego Gas & Electric Company and Southern California Edison Company

ER96-1663, 010, Pacific Gas and Electric Company, San Diego Gas & Electric Company and Southern California Edison Company

EC96-19, 030, California Independent System Operator Corporation

ER96-1663, 031, California Independent System Operator Corporation

E-10. Docket# ER02-854, 000, Florida Power and Light Company

Other#s ER02-854, 003, Florida Power and Light Company

E-11. Docket# ER02-170, 002, Boston Edison Company

Other#s ER02-170, 003 Boston Edison Company

ER02-170, 004, Boston Edison Company

E-12. Docket# ER02-2598, 000, Commonwealth Edison Company

E-13. Omitted

E-14. Docket# ER02-1266, 002, Niagara Mohawk Power Corporation

Other#s ER02-1266, 003, Niagara Mohawk Power Corporation

E-15. Docket# ER01-3149, 003, Nevada Power Company

E-16. Docket# EL01-50, 002, KeySpan-Ravenswood, Inc. v. New York Independent System Operator, Inc.

E-17. Docket# EL96-17, 003, Citizens Communications Company

Other#s ER95-1586, 006, Citizens Communications Company

ER95-1586, 007, Citizens Communications Company

ER95-1586, 008, Citizens Communications Company

ER95-1586, 009, Citizens Communications Company

OA96-184, 004, Citizens Communications Company

OA96-184, 005, Citizens Communications Company

EL01-20, 000, Citizens Communications Company

E-18. Docket# ER98-1440, 000, Central Vermont Public Service Corporation

E-19. Docket# ER02-2609, 000, Sierra Pacific Power Company and Nevada Power Company

E-20. Omitted

E-21. Docket# RT01-15, 005, Avista Corporation, Nevada Power Company, Portland General Electric Company and Sierra Pacific Power Company

Other#s ER02-323, 001, TransConnect, LLC

E-22. Docket# EL99-58, 001, Village of Freeport, New York v. Consolidated Edison Company of New York

E-23. Docket# EL00-114, 001, Dynegy Power Marketing, Inc. v. Ameren Services Company

E-24. Docket# EL02-86, 001, Exelon Generation Company LLC, v. Southwest Power Pool, Inc.

E-25. Omitted

E-26. Docket# ER02-108, 006, Midwest Independent Transmission System Operator, Inc.

Other#s ER02-108, 007, Midwest Independent Transmission System Operator, Inc.

E-27. Docket# ER02-1710, 001, Southwest Power Pool, Inc.

E-28. Omitted

E-29. Omitted

E-30. Docket# ER02-1817, 001, American Electric Power Service Corporation

Other#s ER02-1817, 002, American Electric Power Service Corporation

E-31. Omitted

E-32. Docket# ER02-1834, 001, California Independent System Operator Corporation

Other#s ER02-1835, 001, California Independent System Operator Corporation

E-33. Docket# ER02-2651, 000, PJM Interconnection L.L.C.

E-34. Omitted

E-35. Docket# EL02-41, 000, Pittsfield Generating Company, L.P.

Other#s QF88-21, 009, Pittsfield Generating Company, L.P.

E-36. Docket# EL02-72, 000, PPL Large Scale Distribution Generation II, LLC and PPL Midwest Finance, LLC

E-37. Docket# EL02-126, 000, City of Corona, California v. Southern California Edison Company

E-38. Docket# EL02-110, 000, New England Coalition on Nuclear Pollution and Citizens Awareness Network v. Vermont Yankee Nuclear Power Corporation, New England Power Company, Green Mountain Power Company, Central Vermont Public Service Corporation, Central Maine Power Company, Cambridge Electric Light Company, Northeast Utilities (through its affiliates and operating companies Western Massachusetts Electric Company, Connecticut Light and Power Company, and Public Service Company of New Hampshire) and Entergy Nuclear Vermont Yankee, LLC

E-39. Docket# EL01-100, 000, Corn Belt Energy Corp., v. Soyland Power Cooperative, Inc.

Other#s EL01-107, 000, Corn Belt Energy Corp., v. Soyland Power Cooperative, Inc.

EL01-108, 000, Monroe County Electric Cooperative v. Soyland Power Cooperative, Inc.

E-40. Docket# EL03-9, 000, Alternate Power Source, Inc., v. Western Massachusetts Electric Company and Northeast Utilities System

E-41. Omitted

E-42. Docket# ER01-889, 011, California Independent System Operator Corporation

Other#s EL00-95, 059, San Diego Gas & Electric Company v. Sellers of Energy and Ancillary Services Into Markets Operated by the California Independent System Operator and the California Power Exchange

EL00-95, 060, San Diego Gas & Electric Company v. Sellers of Energy and Ancillary Services Into Markets Operated by the California Independent System Operator and the California Power Exchange

ER01-889, 012, California Independent System Operator Corporation

ER01-889, 013, California Independent System Operator Corporation

ER01-3013, 003, California Independent System Operator Corporation

ER01-3013, 004, California Independent System Operator Corporation

ER01-3013, 005, California Independent System Operator Corporation

E-43. Docket# ER02-2126, 000, Consolidated Edison Company of New York, Inc.

Other#s ER02-2126, 001, Consolidated Edison Company of New York, Inc.

ER02-2126, 002, Consolidated Edison Company of New York, Inc.

ER02-2126, 003, Consolidated Edison Company of New York, Inc.

E-44. Docket# EL02-87, 000, Cities of Anaheim, Azusa, Banning, Colton and Riverside, California and the City of Vernon, California v. California Independent System Operator Corporation

E-45. Docket# EL02-127, 000, PPL Electric Utilities

E-46. Docket# EL00-66, 000, Louisiana Public Service Commission and the Council of the City of New Orleans v. Entergy Corporation

Other#s EL95-33, 002, Louisiana Public Service Commission v. Entergy Services, Inc.

ER00-2854, 000, Entergy Services, Inc.

E-47. Docket# EL02-23, 001, Consolidated Edison Company of New York v. Public Service Electric and Gas Company, PJM Interconnection, L.L.C., and New York Independent System Operator, Inc.

E-48. Docket# ER02-863, 002, Midwest Independent Transmission System Operator, Inc.

Other#s ER02-330, 002, Alliant Energy Corporate Services, Inc.

E-49. Docket# EL02-112, 000, FirstEnergy Solutions Corp., v. PJM Interconnection, L.L.C.

Other#s EL02-120, 000, Edison Mission Energy v. PJM Interconnection, L.L.C.

E-50. Docket# ER02-1451, 001, Ameren Energy Marketing Company

E-51. Docket# EL03-8, 000, LMB Funding, Limited Partnership

E-52. Docket# ER03-37, 000, Sierra Pacific Power Company and Nevada Power Company

Other#s ER02-2609, 000, Sierra Pacific Power Company and Nevada Power Company

E-53. Docket# ER02-2613, 000, American Electric Power Service Corporation

E-54. Docket# ER02-10, 000, Duke Energy Oakland, LLC and Duke Energy South Bay, LLC

Other#s ER98-496, 000, Duke Energy South Bay, LLC

ER02-10, 002, Duke Energy Oakland, LLC and Duke Energy South Bay, LLC

ER02-10, 001, Duke Energy Oakland, LLC and Duke Energy South Bay, LLC

ER02-10, 003, Duke Energy Oakland, LLC and Duke Energy South Bay, LLC

ER02-239, 003, Duke Energy South Bay, LLC

ER02-239, 000, Duke Energy South Bay, LLC

ER02-239, 001, Duke Energy South Bay, LLC

ER02-239, 002, Duke Energy South Bay, LLC

ER02-240, 000, Duke Energy Oakland, LLC

ER02-240, 001, Duke Energy Oakland, LLC

ER02-240, 002, Duke Energy Oakland, LLC

ER02-240, 003, Duke Energy Oakland, LLC

ER02-1478, 001, Duke Energy Oakland, LLC

ER02-1478, 000, Duke Energy Oakland, LLC

ER02-1478, 002, Duke Energy Oakland, LLC

E-55. Docket# ER02-711, 002, American Electric Power Service Corporation

E-56. Omitted

E-57. Docket# EL00-95, 000, San Diego Gas & Electric Company v. Sellers of Energy and Ancillary Services into Markets Operated by the California Independent System Operator Corporation and the California Power Exchange

Other#s EL00-95, 048, San Diego Gas & Electric Company v. Sellers of Energy and Ancillary Services into Markets Operated by the California Independent System Operator Corporation and the California Power Exchange

EL00-98, 000, Investigation of Practices of California Independent System Operator Corporation & California Power Exchange

EL00-98, 042, Investigation of Practices of California Independent System Operator Corporation & California Power Exchange

Miscellaneous Agenda

M-1. Docket# PL02-5, 000, Statement of Administrative Policy on Separation of Functions

Markets, Tariffs and Rates—Gas

G-1. Omitted

G-2. Omitted

G-3. Omitted

G-4. Omitted

G-5. Omitted

G-6. Omitted

G-7. Docket# RP03-32, 000, Stingray Pipeline Company, L.L.C.

G-8. Omitted

G-9. Omitted

G-10. Docket# RP00-404, 000, Northern Natural Gas Company

Others#s RP00-404, 002, Northern Natural Gas Company

RP00-404, 005, Northern Natural Gas Company

RP00-627, 000, Northern Natural Gas Company

RP00-627, 001, Northern Natural Gas Company

G-11. Docket# RP02-153, 000, Horizon Pipeline Company, L.L.C.

Other#s RP02-153, 001, Horizon Pipeline Company, L.L.C.

G-12. Docket# RP02-356, 000, Canyon Creek Compression Company

G-13. Omitted

G-14. Docket# RP00-409, 000, Natural Gas Pipeline Company of America

Other#s RP00-409, 001, Natural Gas Pipeline Company of America

RP00-631, 000, Natural Gas Pipeline Company of America

RP00-631, 002, Natural Gas Pipeline Company of America

G-15. Docket# RP98-206, 009, Atlanta Gas Light Company

G-16. Docket# RP00-329, 002, Great Lakes Gas Transmission Limited Partnership

G-17. Omitted

G-18. Docket# RP97-288, 025, Transwestern Pipeline Company

Other#s RP01-507, 001, Transwestern Pipeline Company

G-19. Docket# RP00-533, 003, Algonquin Gas Transmission Company

G-20. Docket# RP01-265, 001, Colorado Interstate Gas Company

Other#s RP01-441, 000, Colorado Interstate Gas Company

RP01-574, 000, Colorado Interstate Gas Company

RP02-102, 000, Colorado Interstate Gas Company

RP02-195, 000, Colorado Interstate Gas Company

RP02-348, 000, Colorado Interstate Gas Company

RP02-528, 000, Colorado Interstate Gas Company

G-21. Docket# RP00-472, 002, USG Pipeline Company

Other#s RP01-31, 002, USG Pipeline Company

G-22. Docket# RP00-535, 003, Texas Eastern Transmission, LP

G-23. Docket# IS01-441, 000, Olympic Pipe Line Company

G-24. Docket# RP02-340, 002, ANR Pipeline Company

Other#s RP02-340, 001, ANR Pipeline Company

G-25. Docket# RP02-307, 001, Texas Gas Transmission Corporation

G-26. Docket# RP02-252, 002, Columbia Gulf Transmission Company

G-27. Docket# RP02-254, 002, Columbia Gas Transmission Corporation

G-28. Docket# RP02-248, 002, Kern River Gas Transmission Co.

G-29. Omitted

G-30. Docket# RP02-448, 001, National Fuel Gas Supply Corporation

Other#s RP02-448, 002, National Fuel Gas Supply Corporation

G-31. Docket# RM96-1, 024, Standards for Business Practices of Interstate Natural Gas Pipelines

G-32. Docket# RP03-16, 000, Pan-Alberta Gas (U.S.) Inc., and Mirant Americas Energy Marketing, L.P. v. Northern Border Pipeline Company

G-33. Omitted

G-34. Omitted

G-35. Omitted

G-36. Docket# GT02-15, 002, Horizon Pipeline Company, L.L.C.

Other#s GT02-15, 001, Horizon Pipeline Company, L.L.C.

G-37. Docket# CP00-6, 006, Gulfstream Natural Gas System, L.L.C.

G-38. Docket# RP00-411, 002, Iroquois Gas Transmission System, L.P.

Other#s RP01-44, 004, Iroquois Gas Transmission System, L.P.

Energy Projects—Hydro

H-1. Docket# DI99-2, 003, Alaska Power & Telephone Company

H-2. Omitted

H-3. Omitted

H-4. Docket# P-2114, 106, The Yakama Nation v. Public Utility District No. 2 of Grant County, WA

H-5. Docket# P-2727, 046, PPL Maine, LLC

H-6. Docket# P-1862, 085, City of Tacoma, Washington

Energy Projects—Certificates

C-1. Docket# CP02-379, 000, Southern LNG Inc.

Other#s CP02-380, 000, Southern LNG Inc.

C-2. Docket# CP02-155, 000, Gulf South Pipeline Company, LP

C-3. Docket# CP02-90, 000, AES Ocean Express LLC

Other#s CP02-90, 001, AES Ocean Express LLC

CP02-91, 000, AES Ocean Express LLC

CP02-92, 000, AES Ocean Express LLC

CP02-93, 000, AES Ocean Express LLC

C-4. Omitted

C-5. Docket# CP02-428, 000, Ozark Gas Transmission, LLC

C-6. Docket# CP01-415, 001, East Tennessee Natural Gas Company

Other#s CP01-375, 000, East Tennessee Natural Gas Company

CP01-415, 000, East Tennessee Natural Gas Company

CP01-415, 002, East Tennessee Natural Gas Company

CP01-415, 003, East Tennessee Natural Gas Company

C-7. Docket# RM01-6, 000, Assignment of Firm Capacity on Upstream Interstate Pipelines

Magalie R. Salas,
Secretary.

[FR Doc. 02-29535 Filed 11-15-02; 4:20 pm]

BILLING CODE 6717-01-P